DEPARTMENT OF TRANSPORTATION

Federal Aviation Administration

14 CFR Part 71

[Docket No. FAA-2006-26244; Airspace Docket No. 06-AAL-36]

RIN 2120-AA66

Establishment of Alaskan High Altitude Reporting Points; AK

AGENCY: Federal Aviation Administration (FAA), DOT.

ACTION: Final rule.

SUMMARY: This action establishes four high altitude reporting points AYZOL, BORAN, EMSOW, and TIBOY in Alaska. The designation of these high altitude reporting points is needed to facilitate the separation of air traffic in Alaska.

DATES: Effective Date: 0901 UTC, March 15, 2007. The Director of the Federal Register approves this incorporation by reference action under 1 CFR part 51, subject to the annual revision of FAA Order 7400.9 and publication of conforming amendments.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Background

The non-compulsory reporting points AYZOL, BORAN, EMSOW, and TIBOY are in use by the Anchorage Center on a daily basis and are needed for the separation of air traffic.

The Rule

This action amends Title 14 Code of Federal Regulations (14 CFR) part 71 by establishing four high altitude reporting points, AYZOL, BORAN, EMSOW, and TIBOY in Alaska. The FAA has determined these reporting points are needed to support the NAS. This action improves air safety and facilitates the management of air traffic in Alaska. Since this action involves the designation of reporting points already in use by ATC, no additional impact will be incurred by the public. Therefore, I find that notice or public procedure under 5 U.S.C. 553(b) is impractical and contrary to the public interest.

Alaskan High Altitude Reporting Points are published in paragraph 7005 of FAA Order 7400.9P September 1, 2006, and effective September 15, 2006, which is incorporated by reference in 14 CFR 71.1. The Alaskan High Altitude Reporting Points listed in this document will be published subsequently in the Order.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006, and effective September 15, 2006, is amended as follows:

Paragraph 7005 Alaskan High Altitude Reporting Points.

* * * * *

7001 [Amend]

AYZOL AK [New]

* * * * *

BORAN AK [New]

* * * * *

EMSOW AK [New]

* * * * *

TIBOY AK [New]

* * * * *

Issued in Washington, DC on December 7, 2006.
Edith V. Parish,
Acting Manager, Airspace and Rules.

[FR Doc. E6-21190 Filed 12-13-06; 8:45 am]

BILLING CODE 4910-13-P